DEPARTMENT OF COMMERCE

International Trade Administration

[A-851-805, A-475-844, A-821-835]

Emulsion Styrene-Butadiene Rubber From the Czech Republic, Italy, and the Russian Federation: Initiation of Less-Than-Fair-Value Investigations

AGENCY: Enforcement and Compliance, International Trade Administration, Department of Commerce.

DATES: Applicable December 6, 2021.

FOR FURTHER INFORMATION CONTACT: Leo Ayala at (202) 482-3945 (Czech Republic); Zachary Le Vene at (202) 482-0056 (Italy); and Caitlin Monks at (202) 482-2670 (the Russian Federation (Russia)); AD/CVD Operations, Enforcement and Compliance, International Trade Administration, U.S. Department of Commerce, 1401 Constitution Avenue NW, Washington, DC 20230.

SUPPLEMENTARY INFORMATION:

The Petitions

On November 15, 2021, the Department of Commerce (Commerce) received antidumping duty (AD) petitions concerning imports of emulsion styrene-butadiene rubber (ESBR) from the Czech Republic, Italy, and Russia filed in proper form on behalf of Lion Elastomers LLC (the petitioner), a domestic producer of ESBR.¹

¹ See Petitioner's Letter, “Petition (vol. I-IV) for the Imposition of Antidumping Duties on Imports of Emulsion Styrene-Butadiene Rubber from Czech Republic, Italy, and Russia,” dated November 12, 2021 (the Petitions). The Petitions were filed with Commerce and the U.S. International Trade Commission (ITC) on November 12, 2021, after 12:00 noon, and pursuant to 19 CFR 207.10(a), are deemed to have been filed with the ITC on the next business day, November 15, 2021. Because section 732(b)(2) of the Tariff Act of 1930, as amended (the Act), requires simultaneous filing of the Petitions with Commerce and the ITC, Commerce deemed the Petitions to have been filed with Commerce on November 15, 2021. See Memorandum, “Decision Memorandum Concerning the Filing Date of the Petitions,” dated November 15, 2021.

On November 17 and 24, and December 1, 2021, Commerce requested additional information pertaining to certain aspects of the Petitions in separate supplemental questionnaires.² The petitioner filed responses to the supplemental questionnaires on November 19 and 24, and December 1, 2021.³

² See Commerce's Letters, “Petitions for the Imposition of Antidumping Duties on Imports of Emulsion Styrene-Butadiene Rubber from Czech Republic, Italy, and the Russian Federation: Supplemental Questions,” dated November 17, 2021; Country-Specific Supplemental Questionnaires: Czech Republic Supplemental, Italy Supplemental, and Russia Supplemental, dated November 17, 2021; Country-Specific Memoranda pertaining to a phone call with Counsel to the Petitioner, dated November 24, 2021; and Memorandum, “Phone Call with Counsel to the Petitioner,” dated December 1, 2021.

³ See Petitioner's Letters, “Emulsion Styrene-Butadiene Rubber from Czech Republic, Italy, and Russian Federation: Response to General Issues Supplemental Questions,” dated November 19, 2021 (General Issues Supplement); Country-Specific Supplemental Responses, dated November 19, 2021; and Country-Specific Second Supplemental Responses, dated November 24, 2021; and Country-Specific Third Supplemental Responses, dated December 1, 2021.

In accordance with section 732(b) of the Act, the petitioner alleges that imports of ESBR from the Czech Republic, Italy, and Russia are being, or are likely to be, sold in the United States at less than fair value (LTFV) within the meaning of section 731 of the Act, and that imports of such products are materially injuring, or threatening material injury to, the ESBR industry in the United States. Consistent with section 732(b)(1) of the Act, the Petitions are accompanied by information reasonably available to the petitioner supporting its allegations.

Commerce finds that the petitioner filed the Petitions on behalf of the domestic industry because the petitioner is an interested party, as defined in section 771(9)(C) of the Act. Commerce also finds that the petitioner demonstrated sufficient industry support for the initiation of the requested LTFV investigations.⁴

⁴ See infra, section titled “Determination of Industry Support for the Petitions.”

Period of Investigation

Because the Petitions were filed on November 15, 2021, the period of investigation (POI) for these LTFV investigations is October 1, 2020, through September 30, 2021, pursuant to 19 CFR 351.204(b)(1).⁵

⁵ See 19 CFR 351.204(b)(1).

Scope of the Investigations

The product covered by these investigations is ESBR from the Czech Republic, Italy, and Russia. For a full description of the scope of these investigations, see the appendix to this notice.

Comments on the Scope of the Investigations

As discussed in the Preamble to Commerce's regulations, we are setting aside a period for interested parties to raise issues regarding product coverage (i.e., scope).⁶ Commerce will consider all comments received from interested parties and, if necessary, will consult with interested parties prior to the issuance of the preliminary determinations. If scope comments include factual information,⁷ all such factual information should be limited to public information. To facilitate preparation of its questionnaires, Commerce requests that all interested parties submit such comments by 5:00 p.m. Eastern Time (ET) on December 27, 2021, which is the next business day after 20 calendar days from the signature date of this notice.⁸ Any rebuttal comments, which may include factual information, must be filed by 5:00 p.m. ET on January 6, 2022, which is ten calendar days from the initial comment deadline.

⁶ See Antidumping Duties; Countervailing Duties, Final Rule, 62 FR 27296, 27323 (May 19, 1997) (Preamble).

⁷ See 19 CFR 351.102(b)(21) (defining “factual information”).

⁸ The deadline for comments falls on December 26, 2021, which is a Sunday. Therefore, in accordance with the Next Business Day Rule, the appropriate deadline is the next business day (in this instance, December 27, 2021). See Notice of Clarification: Application of “Next Business Day” Rule for Administrative Determination Deadlines Pursuant to the Tariff Act of 1930, As Amended, 70 FR 24533 (May 10, 2005) (Next Business Day Rule).

Commerce requests that any factual information that parties consider relevant to the scope of these investigations be submitted during this period. However, if a party subsequently finds that additional factual information pertaining to the scope of these investigations may be relevant, the party may contact Commerce and request permission to submit the additional information. All such submissions must be filed on the records of each of the concurrent AD investigations.

Filing Requirements

All submissions to Commerce must be filed electronically via Enforcement and Compliance's Antidumping Duty and Countervailing Duty Centralized Electronic Service System (ACCESS), unless an exception applies.⁹ An electronically filed document must be received successfully in its entirety by the time and date on which it is due.

⁹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of ESBR to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe ESBR, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on December 27, 2021, which is the next business day after 20 calendar days from the signature date of this notice.¹⁰ Any rebuttal comments must be filed by 5:00 p.m. ET on January 6, 2022, which is 10 calendar days from the initial comment deadline. All comments and submissions to Commerce must be filed electronically using ACCESS, as explained above, on the record of each of the LTFV investigations.

¹⁰ The deadline for comments falls on December 26, 2021, which is a Sunday. Therefore, in accordance with the Next Business Day Rule, the appropriate deadline is the next business day (in this instance, December 27, 2021). See Next Business Day Rule.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The ITC, which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (Ct. Int'l Trade January 24, 2001) (citing Algoma Steel Corp. v. United States, 688 F. Supp. 639, 644 (Ct. Int'l Trade June 8, 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹³ Based on our analysis of the information submitted on the record, we have determined that ESBR, as defined in the scope, constitutes a single domestic like product, and we have analyzed industry support in terms of that domestic like product.¹⁴

¹³ See Petitions at Volume I at 15-22.

¹⁴ For a discussion of the domestic like product analysis as applied to these cases and information regarding industry support, see Antidumping Duty Investigation Initiation Checklists: Emulsion Styrene-Butadiene Rubber from Czech Republic, Italy, and the Russian Federation (Country-Specific AD Initiation Checklists) at Attachment II, Analysis of Industry Support for the Antidumping Duty Petitions Covering Emulsion Styrene-Butadiene Rubber from the Czech Republic, Italy, and the Russian Federation (Attachment II). These checklists are dated concurrently with this notice and on file electronically via ACCESS.

In determining whether the petitioner has standing under section 732(c)(4)(A) of the Act, we considered the industry support data contained in the Petitions with reference to the domestic like product as defined in the “Scope of the Investigations,” in the appendix to this notice. To establish industry support, the petitioner provided its own production of the domestic like product in 2020 and estimated the 2020 production of Goodyear Chemical, the only other known U.S. producer of ESBR.¹⁵ The petitioner also provided a letter of support from the United Steel, Paper and Forestry, Rubber, Manufacturing, Energy, Allied Industrial and Service Workers International Union, AFL-CIO, CLC (USW)—USW Local 13-228-03, stating that the USW represents the workers at the petitioner's Port Neches, TX ESBR plant and that it supports the Petitions.¹⁶ The petitioner also provided a letter of support from the International Union of Operating Engineers (IUOE)—IUOE Local 564, stating that the IUOE represents workers at Goodyear Chemical's Houston, TX ESBR plant and that it supports the Petitions.¹⁷ The petitioner stated that unions representing workers responsible for 100 percent of the total production of the domestic like product support the Petitions.¹⁸ Because the petitioner and Goodyear Chemical are the only known U.S. producers of ESBR, the petitioner stated that the Petitions are supported by 100 percent of the U.S. industry.¹⁹ We relied on data provided by the petitioner for purposes of measuring industry support.²⁰

¹⁵ See Petitions at Volume I at 4 and Exhibits I-1, I-3, I-15, and I-16; see also General Issues Supplement at 1-2 and Exhibit SI-16.

¹⁶ See Petitions at Volume I at 4 and Exhibit I-5.

¹⁷ See Petitions at Volume I at 4 and Exhibit I-6.

¹⁸ Id. at 4 and Exhibits I-5 and I-6.

¹⁹ See Petitions at Volume I at 2-4 and Exhibits I-1, I-3, and I-4.

²⁰ Id. at 2-4 and Exhibits I-1, I-3, I-4, I-15, and I-16; see also General Issues Supplement at 1-2 and Exhibit SI-16. For further discussion, see Attachment II of the Country-Specific AD Initiation Checklists.

Our review of the data provided in the Petitions, the General Issues Supplement, and other information readily available to Commerce indicates that the petitioner has established industry support for the Petitions. First, the Petitions established support from domestic producers and workers accounting for more than 50 percent of the total production of the domestic like product, and, as such, Commerce is not required to take further action in order to evaluate industry support (e.g., polling).²¹ Second, the domestic producers and workers have met the statutory criteria for industry support under section 732(c)(4)(A)(i) of the Act because the domestic producers and workers who support the Petitions account for at least 25 percent of the total production of the domestic like product.²² Finally, the domestic producers and workers have met the statutory criteria for industry support under section 732(c)(4)(A)(ii) of the Act because the domestic producers and workers who support the Petitions account for more than 50 percent of the production of the domestic like product produced by that portion of the industry expressing support for, or opposition to, the Petitions.²³ Accordingly, Commerce determines that the Petitions were filed on behalf of the domestic industry within the meaning of section 732(b)(1) of the Act.²⁴

²¹ See Attachment II of the Country-Specific AD Initiation Checklists; see also section 732(c)(4)(D) of the Act.

²² See Attachment II of the AD Initiation Checklist.

²³ Id.

²⁴ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁵

²⁵ See Petitions at Volume I at 14, 24 and Exhibit I-12.

The petitioner contends that the industry's injured condition is illustrated by a significant and increasing volume of subject imports; reduced market share; underselling and price depression and suppression; lost sales and revenues; declines in production, shipments, capacity utilization, and employment; decline in financial performance; inability to implement long-term expansion and growth projects; and the magnitude of the estimated dumping margins.²⁶ We assessed the allegations and supporting evidence regarding material injury, threat of material injury, causation, as well as negligibility, and we have determined that these allegations are properly supported by adequate evidence, and meet the statutory requirements for initiation.²⁷

²⁶ See Volume I of the Petitions at 13-14, 23-33 and Exhibits I-11, I-12, I-14 through I-16; see also General Issues Supplement at 2 and Exhibit SI-11.

²⁷ See Country-Specific AD Initiation Checklists at Attachment III, Analysis of Allegations and Evidence of Material Injury and Causation for the Antidumping Duty Petitions Covering Emulsion Styrene-Butadiene Rubber from the Czech Republic, Italy, and the Russian Federation (Attachment III).

Allegations of Sales at LTFV

The following is a description of the allegations of sales at LTFV upon which Commerce based its decision to initiate these LTFV investigations of imports of ESBR from the Czech Republic, Italy, and Russia. The sources of data for the deductions and adjustments relating to U.S. price and normal value (NV) are discussed in greater detail in the country-specific AD Initiation Checklists.

U.S. Price

For the Czech Republic, Italy, and Russia, the petitioner established export prices (EPs) using the average unit value (AUVs) of publicly available import data. For the Czech Republic and Italy, the petitioner made adjustments to the AUVs for foreign inland freight incurred in subject foreign countries for purposes of calculating ex-factory, or net, EPs. For Russia, the petitioner deducted expenses associated with inland freight and brokerage and handling costs incurred in Russia to calculate an ex-factory, or net, EP.²⁸

²⁸ See Country-Specific AD Initiation Checklists.

Normal Value Based on Constructed Value ²⁹

²⁹ In accordance with section 773(b)(2) of the Act, for these investigations, Commerce will request information necessary to calculate the constructed value (CV) and cost of production (COP) to determine whether there are reasonable grounds to believe or suspect that sales of the foreign like product have been made at prices that represent less than the COP of the product.

For the Czech Republic, Italy, and Russia, the petitioner stated it was unable to obtain home-market or third-country prices for ESBR to use as a basis for NV. Therefore, for the Czech Republic, Italy, and Russia, the petitioner calculated NV based on CV.³⁰

³⁰ See Country-Specific AD Initiation Checklists.

Pursuant to section 773(e) of the Act, the petitioner calculated CV as the sum of the cost of manufacturing, selling, general, and administrative expenses, financial expenses, and profit.³¹ For the Czech Republic, Italy, and Russia, in calculating the cost of manufacturing, the petitioner relied on the production experience and input consumption rates of the petitioner, a U.S. ESBR producer, valued using publicly available information applicable to each respective subject country.³² For the Czech Republic, Italy, and Russia, in calculating selling, general, and administrative expenses, financial expenses, and profit ratios (where applicable), the petitioner relied on the 2020 financial statements of an ESBR producer(s) or producer(s) of comparable merchandise domiciled in each respective subject country.³³

³¹ See Country-Specific AD Initiation Checklists.

³² Id.

³³ Id.

Fair Value Comparisons

Based on the data provided by the petitioner, there is reason to believe that imports of ESBR from the Czech Republic, Italy, and Russia are being, or are likely to be, sold in the United States at LTFV. Based on comparisons of EP to CV in accordance with section 773 of the Act, the estimated dumping margins for ESBR concerning each of the countries covered by this initiation are as follows: (1) Czech Republic—11.00 percent; (2) Italy—28.97 percent; and (3) Russia—263.33 percent.³⁴

³⁴ Id.

Initiation of LTFV Investigations

Based upon the examination of the Petitions and supplemental responses, we find that the Petitions meet the requirements of section 732 of the Act. Therefore, we are initiating these LTFV investigations to determine whether imports of ESBR from the Czech Republic, Italy, and Russia are being, or are likely to be, sold in the United States at LTFV. In accordance with section 733(b)(1)(A) of the Act and 19 CFR 351.205(b)(1), unless postponed, we will make our preliminary determinations no later than 140 days after the date of this initiation.

Respondent Selection

In the Petitions, the petitioner identified four companies in Russia as producers and/or exporters of ESBR.³⁵

³⁵ See Petitions at Volume I at 12-13 and Exhibit I-3.

Following standard practice in LTFV investigations involving market economy countries, in the event that Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States subheadings listed in the “Scope of the Investigations,” in the appendix.

On December 3, 2021, Commerce released CBP data on imports of ESBR from Russia under administrative protective order (APO) to all parties with access to information protected by APO and indicated that interested parties wishing to comment on the CBP data must do so within three business days after the publication date of the notice of initiation of these investigations.³⁶ Commerce will not accept rebuttal comments regarding the CBP data or respondent selection.

³⁶ See Memorandum, “Antidumping Duty Petition on Imports of Emulsion Styrene-Butadiene Rubber from the Russian Federation: Release of U.S. Customs and Border Protection Entry Data,” dated December 3, 2021.

Interested parties must submit applications for disclosure under APO in accordance with 19 CFR 351.305(b). Instructions for filing such applications may be found on Commerce's website at https://enforcement.trade.gov/apo.

Comments on CBP data and respondent selection for Russia must be filed electronically using ACCESS. An electronically filed document must be received successfully in its entirety via ACCESS by 5:00 p.m. ET on the specified deadline.

In the Petitions, the petitioner identified one company in the Czech Republic as a producer/exporter of ESBR (i.e., Synthos Kralupy A.S. (Synthos)) and one company in Italy as a producer/exporter of ESBR (i.e., Eni Versalis S.p.A. (Versalis)) and provided independent third-party information as support.³⁷ We currently know of no additional producers/exporters of ESBR from the Czech Republic or Italy. Accordingly, Commerce intends to individually examine all known producers/exporters in the investigations from these countries (i.e., the companies cited above). We invite interested parties to comment on this issue. Such comments may include factual information within the meaning of 19 CFR 351.102(b)(21). Parties wishing to comment must do so within three business days of the publication of this notice in the Federal Register. Comments must be filed electronically using ACCESS. An electronically-filed document must be received successfully in its entirety via ACCESS by 5:00 p.m. ET on the specified deadline. Because we intend to examine all known producers/exporters in the Czech Republic and Italy, if no comments are received or if comments received further support the existence of these sole producers/exporters in the Czech Republic and Italy, respectively, we do not intend to conduct respondent selection and will proceed to issuing the initial antidumping questionnaires to the companies identified. However, if comments are received which create a need for a respondent selection process, we intend to finalize our decisions regarding respondent selection within 20 days of publication of this notice.

³⁷ See Petitions at Volume I at 12-13 and Exhibit I-3.

Distribution of Copies of the Petitions

In accordance with section 732(b)(3)(A) of the Act and 19 CFR 351.202(f), copies of the public version of the Petitions have been provided to the governments of the Czech Republic, Italy, and Russia via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of ESBR from the Czech Republic, Italy, and/or Russia are materially injuring, or threatening material injury to, a U.S. industry.³⁸ A negative ITC determination for any country will result in the investigation being terminated with respect to that country.³⁹ Otherwise, these LTFV investigations will proceed according to statutory and regulatory time limits.

³⁸ See section 733(a) of the Act.

³⁹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁰ and, if the information is submitted to rebut, clarify, or correct factual information already on the record, to provide an explanation identifying the information already on the record that the factual information seeks to rebut, clarify, or correct.⁴¹ Time limits for the submission of factual information are addressed in 19 CFR 351.301, which provides specific time limits based on the type of factual information being submitted. Interested parties should review the regulations prior to submitting factual information in these investigations.

⁴⁰ See 19 CFR 351.301(b).

⁴¹ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Commerce's regulations concerning factual information prior to submitting factual information in these investigations.⁴²

⁴² See 19 CFR 351.301; see also Extension of Time Limits; Final Rule, 78 FR 57790 (September 20, 2013), available at http://www.gpo.gov/fdsys/pkg/FR-2013-09-20/html/2013-22853.htm.

Certification Requirements

Any party submitting factual information in an AD proceeding must certify to the accuracy and completeness of that information.⁴³ Parties must use the certification formats provided in 19 CFR 351.303(g).⁴⁴ Commerce intends to reject factual submissions if the submitting party does not comply with the applicable certification requirements.

⁴³ See section 782(b) of the Act.

⁴⁴ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by the filing a letter of appearance as discussed). Note that Commerce has temporarily modified certain of its requirements for serving documents containing business proprietary information, until further notice.⁴⁵

⁴⁵ See Temporary Rule Modifying AD/CVD Service Requirements Due to COVID-19; Extension of Effective Period, 85 FR 41363 (July 10, 2020).

This notice is issued and published pursuant to sections 732(c)(2) and 777(i) of the Act, and 19 CFR 351.203(c).

Dated: December 6, 2021.
Ryan Majerus,
Deputy Assistant Secretary for Policy and Negotiations, performing the non-exclusive functions and duties of the Assistant Secretary for Enforcement and Compliance.

Appendix—Scope of the Investigations

The products covered by these investigations are cold-polymerized emulsion styrene-butadiene rubber (ESB rubber). The scope of the investigations includes, but is not limited to, ESB rubber in primary forms, bales, granules, crumbs, pellets, powders, plates, sheets, strip, etc. ESB rubber consists of non-pigmented rubbers and oil-extended non-pigmented rubbers, both of which contain at least one percent of organic acids from the emulsion polymerization process.

ESB rubber is produced and sold in accordance with a generally accepted set of product specifications issued by the International Institute of Synthetic Rubber Producers (IISRP). The scope of the investigations covers grades of ESB rubber included in the IISRP 1500 and 1700 series of synthetic rubbers. The 1500 grades are light in color and are often described as “Clear” or “White Rubber.” The 1700 grades are oil-extended and thus darker in color, and are often called “Brown Rubber.”

Specifically excluded from the scope of these investigations are products which are manufactured by blending ESB rubber with other polymers, high styrene resin master batch, carbon black master batch (i.e., IISRP 1600 series and 1800 series) and latex (an intermediate product).

The products subject to these investigations are currently classifiable under subheadings 4002.19.0015 and 4002.19.0019 of the Harmonized Tariff Schedule of the United States (HTSUS). ESB rubber is described by Chemical Abstracts Services (CAS) Registry No. 9003-55-8. This CAS number also refers to other types of styrene butadiene rubber. Although the HTSUS subheadings and CAS registry number are provided for convenience and customs purposes, the written description of the scope of these investigations is dispositive.

[FR Doc. 2021-26832 Filed 12-9-21; 8:45 am]

BILLING CODE 3510-DS-P